DEPARTMENT OF AGRICULTURE

Commodity Credit Corporation

Poult Enteritis Mortality Syndrome (PEMS)

AGENCY: Commodity Credit Corporation, USDA.

ACTION: Notice.

SUMMARY: The Commodity Credit Corporation (CCC) is issuing this notice to inform all interested parties who were affected by turkey depopulation due to Poult Enteritis Mortality Syndrome (PEMS) in southwestern Missouri of the availability of assistance for such losses through Livestock Indemnity Program for Contract Growers (LIP-CG).

FOR FURTHER INFORMATION CONTACT: Sharon Biastock, (202) 720-6336.

SUPPLEMENTARY INFORMATION:

Background

During the period since April 2000, several turkey contract growers in the southwestern Missouri counties of Jasper, Newton, Barry, McDonald, and Barton, were forced to depopulate their turkey houses for several weeks due to an outbreak of PEMS. PEMS is an intestinal infection that causes dehydration and high mortality in young turkeys. To end the disease, growers must depopulate their turkey houses and leave them empty for two growing cycles, or about 20 weeks.

Section 806 of the Agriculture, Rural Development, Food and Drug Administration, and Related Agencies Appropriations Act, 2001, Public Law 106-387, as amended by section 101(5) of H.R. 5666, Miscellaneous Appropriations Act, 2001, as enacted in the Consolidated Appropriations Act, 2001, Public Law 106-554, provides that the Secretary shall not use more than $2 million to carry out a program for income losses as a result of PEMS sustained before April 30, 2001, by individuals who raise poultry owned by other individuals.

Purpose

The purpose of this notice is to inform affected parties that to receive benefits, contract growers must file application CCC-661 and provide the necessary documentation showing the number of birds that were destroyed and the number that would have been raised if there had been no need to depopulate the turkey houses. Subject to the availability of funds under the $2 million limit, applications will be accepted and approved using the same terms and conditions that apply to the Livestock Indemnity Program for Contract Growers (LIP-CG) that were published in the Federal Register on December 29, 2000, (65 F.R. 82892) revising 7 CFR Part 1439, Subpart E—Livestock Indemnity Program for Contract Growers with the following exceptions:

(a) Eligibility applies only to turkey contract growers who depopulated their turkey houses at any time during the period of March 1, 2000 through April 30, 2001 because of PEMS; and

(b) Presidential or Secretarial natural disaster declarations are not necessary.

Application for benefits due to PEMS for Jasper, Newton, Barry, McDonald , and Barton Counties in Missouri must be filed with the Farm Service Agency (FSA) in the local USDA Service Center servicing the county in which the affected turkey population is located no later than the final signup date yet to be determined by the Secretary but not before May 1, 2001.

Contract growers of turkeys affected by PEMS in counties other than Jasper, Newton, Barry, McDonald, and Barton of Missouri, may contact Sharon Biastock by May 1, 2001, for further guidance on applying for benefits.

After all applications are received, final eligibility determinations will be made. To the extent that eligible claims exceed the $2 million available, the agency will apportion the claims accordingly.

Signed at Washington, DC, on March 22, 2001.
James R. Little,
Acting Executive Vice President, Commodity Credit Corporation.

[FR Doc. 01-7788 Filed 3-28-01; 8:45 am]

BILLING CODE 3410-05-P